INTERNATIONAL TRADE COMMISSION

[Investigation No. 731-TA-1526 (Final)]

Silicon Metal From Malaysia; Determination

On the basis of the record ¹ developed in the subject investigation, the United States International Trade Commission (“Commission”) determines, pursuant to the Tariff Act of 1930 (“the Act”), that an industry in the United States is materially injured by reason of imports of silicon metal, provided for in subheadings 2804.69.10 and 2804.69.50 of the Harmonized Tariff Schedule of the United States, from Malaysia, that have been found by the U.S. Department of Commerce (“Commerce”) to be sold in the United States at less than fair value (“LTFV”).

¹ The record is defined in § 207.2(f) of the Commission's Rules of Practice and Procedure (19 CFR 207.2(f)).

Background

The Commission instituted the investigations effective June 30, 2020, following receipt of petitions filed with the Commission and Commerce by Globe Specialty Metal, Inc., Beverly, Ohio and Mississippi Silicon, LLC, Burnsville, Mississippi. The final phase of the investigations was scheduled by the Commission following notification of preliminary determinations by Commerce that imports of silicon metal from Kazakhstan were subsidized within the meaning of section 703(b) of the Act (19 U.S.C. 1671b(b)) and that imports of silicon metal from Bosnia and Herzegovina and Iceland were being sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on December 30, 2020 (85 FR 86578). In light of the restrictions on access to the Commission building due to the COVID-19 pandemic, the Commission conducted its hearing through written testimony and video conference on February 22, 2021. All persons who requested the opportunity were permitted to participate.

The investigation schedules became staggered when Commerce: (i) Postponed the final determination for its antidumping duty investigation regarding Silicon Metal from Malaysia; and (ii) reached earlier final antidumping and countervailing duty determinations concerning Silicon Metal from Bosnia and Herzegovina, Iceland, and Kazakhstan. On April 12, 2021, the Commission issued final affirmative determinations in its antidumping and countervailing duty investigations of Silicon Metal from Bosnia and Herzegovina, Iceland, and Kazakhstan (86 FR 20197, April 16, 2021). Following notification of a final determination by Commerce that imports of Silicon Metal from Malaysia were being sold at LTFV within the meaning of section 735(a) of the Act (19 U.S.C. 1673d(a)),² notice of the supplemental scheduling of the final phase of the Commission's antidumping duty investigation with respect to Malaysia was given by posting copies of the notice in the Office of the Secretary, U.S. International Trade Commission, Washington, DC, and by publishing the notice in the Federal Register on June 30, 2021 (86 FR 34786).

² 86 FR 33224, June 24, 2021.

The Commission made this determination pursuant to § 735(b) of the Act (19 U.S.C. 1673d(b)). It completed and filed its determination in this investigation on August 9, 2021. The views of the Commission are contained in USITC Publication 5220 (August 2021), entitled Silicon Metal from Malaysia: Investigation No. 731-TA-1526 (Final).

By order of the Commission.
Issued: August 9, 2021.
Lisa Barton,
Secretary to the Commission.

[FR Doc. 2021-17308 Filed 8-12-21; 8:45 am]

BILLING CODE 7020-02-P